DEPARTMENT OF THE TREASURY

United States Mint

Establish Pricing for 2020 United States Mint Numismatic Products

AGENCY: United States Mint, Department of the Treasury.

ACTION: Notice.

SUMMARY: The United States Mint is announcing pricing for recurring and new United States Mint numismatic products in accordance with the table shown in SUPPLEMENTARY INFORMATION below:

FOR FURTHER INFORMATION CONTACT: Angela Hicks, Marketing Specialist, Sales and Marketing; United States Mint; 801 9th Street NW,; Washington, DC 20220; or call 202-354-7750.

SUPPLEMENTARY INFORMATION:

Product | 2020 retail price
American Innovation™ $1 Coin Roll—P mint mark (Connecticut) | $34.50
American Innovation $1 Coin Roll—D mint mark (Connecticut) | $34.50
American Innovation $1 Coin—100-Coin Bag—P mint mark (Connecticut) | $117.50
American Innovation $1 Coin—100-Coin Bag—D mint mark (Connecticut) | $117.50
American Innovation $1 Coin Roll—P mint mark (Massachusetts) | $34.50
American Innovation $1 Coin Roll—D mint mark (Massachusetts) | $34.50
American Innovation $1 Coin—100-Coin Bag—P mint mark (Massachusetts) | $117.50
American Innovation $1 Coin—100-Coin Bag—D mint mark (Massachusetts) | $117.50
American Innovation $1 Coin Roll—P mint mark (Maryland) | $34.50
American Innovation $1 Coin Roll—D mint mark (Maryland) | $34.50
American Innovation $1 Coin—100-Coin Bag—P mint mark (Maryland) | $117.50
American Innovation $1 Coin—100-Coin Bag—D mint mark (Maryland) | $117.50
American Innovation $1 Coin Roll—P mint mark (South Carolina) | $34.50
American Innovation $1 Coin Roll—D mint mark (South Carolina) | $34.50
American Innovation $1 Coin—100-Coin Bag—P mint mark (South Carolina) | $117.50
American Innovation $1 Coin—100-Coin Bag—D mint mark (South Carolina) | $117.50
George H.W. Bush Presidential $1 Coin Roll—P mint mark | $34.50
George H.W. Bush Presidential $1 Coin Roll—D mint mark | $34.50
George H.W. Bush Presidential $1 Coin 100-Coin Bag—P mint mark | $117.50
George H.W. Bush Presidential $1 Coin 100-Coin Bag—D mint mark | $117.50
George H.W. Bush Presidential $1 Coin 250-Coin Box—P mint mark | $289.75
George H.W. Bush Presidential $1 Coin 250-Coin Box—D mint mark | $289.75

Authority: 31 U.S.C. 5111, 5112, 5132 & 9701.

Eric Anderson,
Executive Secretary, United States Mint.

[FR Doc. 2020-20775 Filed 9-18-20; 8:45 am]

BILLING CODE P